DEPARTMENT OF LABOR

Office of Workers' Compensation Programs

Advisory Board on Toxic Substances and Worker Health

ACTION: Notice of Comment Period: List of Candidates for the Advisory Board on Toxic Substances and Worker Health for Part E of the Energy Employees Occupational Illness Compensation Program Act (EEOICPA).

SUMMARY: The Secretary of Labor (Secretary) previously invited interested parties to submit nominations for individuals to serve on the Advisory Board on Toxic Substances and Worker Health for Part E of the Energy Employees Occupational Illness Compensation Program Act (EEOICPA). The nomination period was open from July 21, 2015 to September 4, 2015. The Secretary now invites interested parties to submit comments regarding the qualifications of potential candidates listed below for membership on the Advisory Board. The Board shall consist of 12-15 members, to be appointed by the Secretary. Pursuant to Section 3687(a)(2), Public Law 106-398, the Advisory Board will reflect a reasonable balance of scientific, medical, and claimant members, to address the tasks assigned to the Advisory Board. The Board will meet no less than twice per year, except the Board may meet only once in 2015.

The Department of Labor is committed to equal opportunity in the workplace and seeks broad-based and diverse Advisory Board membership. Comments should not exceed one page and will be protected to the extent permitted by law, including the Freedom of Information Act.

DATES: Public comments must be submitted (postmarked, if sending by mail; submitted electronically; or received, if hand delivered) within 14 days of the date of this notice.

ADDRESSES: Comments may be submitted, including attachments, by any of the following methods:

• Electronically: Send to: EnergyAdvisoryBoard@dol.gov (specify in the email subject line, “Comments: Advisory Board on Toxic Substances and Worker Health”).

• Mail, express delivery, hand delivery, messenger, or courier service: Submit one copy of the documents listed above to the following address: U.S. Department of Labor, Office of Workers' Compensation Programs, Advisory Board on Toxic Substances and Worker Health, Room S-3522, 200 Constitution Ave. NW., Washington, DC 20210.

FOR FURTHER INFORMATION CONTACT: For questions, contact the Advisory Board's Designated Federal Official, Sam Shellenberger, Office of Workers' Compensation Programs, at shellenberger.sam@dol.gov, or Carrie Rhoads, Office of Workers' Compensation Programs, at rhoads.carrie@dol.gov.

SUPPLEMENTARY INFORMATION: The Advisory Board on Toxic Substances and Worker Health (the Board) is mandated by Section 3687 of EEOICPA. The Secretary of Labor established the Board under this authority and Executive Order 13699 (June 26, 2015) and in accordance with the provisions of the Federal Advisory Committee Act (FACA), as amended, 5 U.S.C. App. 2. The purpose of the Board is to advise the Secretary with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. Candidates who are ultimately appointed to the Advisory Board will serve as Special Government Employees (SGE). As defined in 19 U.S.C. Section 202, an SGE is an officer or employee who is retained, designated, appointed, or employed to perform temporary duties, with or without compensation, for not more than 130 days during any period of 365 consecutive days.

Candidates
NAME (last, first) | Affiliation
Ahmad, Taha M., MD, MPH, FACP | Kaiser Permanente Panorama City.
Bertsche, Patricia K., Ph.D | Abbott Laboratories.
Boden, Leslie I., Ph.D | Boston University School of Public Health.
Burns, Kathleen, Ph.D | Sciencecorps.
Cassano, Victoria A., MD, MPH | Performance Medicine Consulting.
Christopher, Anastasia Spinelli | Dayton Integrative Medicine.
Cisco, Jeanne | Portsmouth Gaseous Diffusion Plant.
Copeland, Maurice | Former employee at Kansas City Plant.
Das, Rupali, MD, MPH, FACOEM | California Department of Industrial Relations; University of California San Francisco.
Dement, John M., Ph.D, CIH | Duke University Medical Center.
Detrick, Charles King | Former employee at Hanford Site.
Domina, Kirk D | Hanford Site.
Dorman, David C., D.V.M., Ph.D, DAVBT, DABT | North Carolina State University.
Driver, Charles Michael | Former employee at Paducah Gaseous Diffusion Plant.
Ducatman, Alan M., MD, MSc | West Virginia University School of Medicine.
Fitzgerald, Joseph E., MS, MPH | Saliant, Inc.
Fletcher III, Elijah, CCWS | Leesburg Regional Medical Center Wellness Center.
Frank, Arthur L., MD, Ph.D | Drexel University School of Public Health.
Friedman-Jimenez, George, MD, Dr.Ph | New York University School of Medicine.
Fuortes, Lawrence J., MD | University of Iowa College of Medicine.
Goldberg, Mark, Ph.D | Retired from City University of New York (CUNY) School of Public Health.
Griffon, Mark, Ph.D | Retired, Creative Pollution Solutions, Inc.
Haimes, Stanley C., MD, MPH, CIH, CSP, FACOEM | University of Central Florida College of Medicine.
Hand, Donna | Help by Hand LLC.
Harrison, Robert J., MD, MPH | University of California San Francisco; California Department of Public Health.
Hicks, Steven L | Former employee at Y-12 National Security Complex.
Jerison, Deborah Goode | Energy Employees Claimant Assistance Project (EECAP).
Jones, Carolyn | Ohio Department of Education.
Jones, Steven R | Y-12 National Security Complex.
Long, J. G | Sterling, Winchester & Long LLC.
Lopez Sr., Peter | Pantex Plant.
Mahs, Ronald A | International Assoc. of Heat & Frost Insulators and Allied Workers.
Manuta, David M., Ph.D, FAIC | Manuta Chemical Consulting, Inc.
Markowitz, Steven, MD, Dr.PH | Queens College; CUNY School of Public Health.
McKeel Jr., Daniel W., MD | Retired, Washington University School of Medicine.
Mikulski, Marek A., MD, MPH, Ph.D | University of Iowa College of Public Health.
Mitchell, Maria E | Miami-Dade County.
Nagy, Lisa L., MD, FAAEM | Vineyard Personalized Medicine; Preventive and Environmental Health Alliance, Inc.
Noonan, Kathleen A., AGNP | Lawrence Livermore National Laboratory.
Pennington, Maxine B | Honeywell.
Pepper, Lewis D., MD, MPH | Queens College; City University of New York.
Pinney, Susan M., Ph.D | University of Cincinnati College of Medicine.
Pope, Duranda M | United Steelworkers.
Potter, Herman R | United Steelworkers.
Ray, Sarah D | Former employee at Pantex Plant.
Raymond, Lawrence W., MD, ScM | University of North Carolina at Chapel Hill.
Redlich, Carrie A., MD, MPH | Yale School of Medicine.
Rowlett, Carl David, MD, MS, FACOEM | University of Texas Health Science Center at Tyler.
Sayeed, Yusef, MD, MPH, M.Eng., CPH, COCH, EIT | West Virginia University.
Schmoldt, Michael J., PE, CIH, CHMM, CPEA | Washington River Protection Solutions.
Schwartz, Eugene, MD, MPH | Public Health and Epidemiology Consultant.
Silver, Kenneth Z., D.Sc., S.M | East Tennessee State University.
Sokas, Rosemary K., MD, MPH, M.Sc | Georgetown University School of Nursing and Health Studies.
Stratton, Harold S | Retired consultant to Agencia Spaziale Italiana.
Tatch, Michael D | TTS Associates.
Tebay, Calin P | Hanford Site.
Turner, James H | Former employee at Rocky Flats plant.
Vearrier, David J., MD, MPH | Drexel University College of Medicine.
Vlieger, Faye A | Former employee at Hanford Site.
Welch, Laura S., MD | Center for Construction Research and Training.
Whitley, Garry M | Worker Health Protection Program, Atomic Trades and Labor Council.
Woodmansee, John T., CIH, CUSA, MS | Education Consultant, State of Connecticut Department of Education.
Zelikoff, Judith T., Ph.D | New York University School of Medicine.
Zeller-Powell, Christine | Haber Law Office.

The information received through this comment process, in addition to other relevant sources of information, will assist the Secretary in appointing members to serve on the Advisory Board. Nominees will be appointed based on the demonstrated qualifications, professional experience, and knowledge of issues related to the purpose and scope of the Advisory Board as well as statutory obligations under FACA and Section 3687 of EEOICPA regarding a balanced membership. Note that the nominees will be evaluated to determine their eligibility under both the statutory conflict of interest provision and under general governmental ethics standards upon completion of the public comment period.

Dated: October 7, 2015.
Leonard J. Howie III,
Director, Office of Workers' Compensation Programs.

[FR Doc. 2015-26282 Filed 10-14-15; 8:45 am]

BILLING CODE 4510-24-P